DEPARTMENT OF HEALTH AND HUMAN SERVICES

Health Resources and Services Administration

Notice of Supplemental Award; Alumni Peer Navigator Services Pilot

AGENCY: Health Resources and Services Administration (HRSA), Department of Health and Human Services.

ACTION: Notice of supplemental award.

SUMMARY: HRSA will provide supplemental award funds in fiscal year 2024 to the current recipient of the Supporting Healthy Start (HS) Performance Project cooperative agreement (HRSA-24-038) to support the second year of the Alumni Peer Navigator (APN) Services Pilot.

FOR FURTHER INFORMATION CONTACT: Aaron M. Lopata, MD, MPP, Senior Medical Officer, Division of HS and Perinatal Services, Maternal and Child Health Bureau, HRSA, at alopata@hrsa.gov and (312) 315-4270.

SUPPLEMENTARY INFORMATION:

Intended Recipient(s) of the Award: The National Institute for Children's Health Quality (NICHQ).

Amount of Competitive or Non-Competitive Award(s): $601,851.

Supplemental funding for similar activities may be considered in future years, subject to the availability of funding for the activity and the satisfactory performance of the recipient.

Project Period: June 1, 2024, to May 31, 2029.

Assistance Listing (CFDA) Number: 93.926.

Award Instrument: Supplement.

Authority: 42 U.S.C. 254c-8 (title III, 330H of the Public Health Service Act).

Table 1—Recipient and Award Amounts
Grant No. | Award recipient name | City, State | Award amount
UF5MC32750 | National Institute for Children's Health Quality | Boston, MA | $601,851

Justification: NICHQ, as the current HS Technical Assistance Support Center, and recipient of the Supporting HS Performance Project, provides national support to all HRSA HS project grantees. The supplemental funds will support new and continued APN activities. APN activities aim to reduce infant mortality rates, address disparities in maternal and infant health outcomes, and address social determinants of health. APNs are former HS participants who have navigated complex and often disparate health, education, and social services. These former HS participants, known as “peer navigators,” help current HS families by providing guidance and information about public benefits and help to address issues such as food insecurity, unstable housing, and lack of transportation.

NICHQ will use supplemental funds to support HS grantees to implement this peer-to-peer workforce model, the APN Services Pilot. The APN Services Pilot was previously known as the Benefits Bundle Pilot. The APN Services Pilot is an interagency collaboration between the Department of Health and Human Services and the Office of Management and Budget/U.S. Digital Service.

The pilot consists of five HS projects in Florence, SC, Atlanta, GA, Baton Rouge, LA, Los Angeles, CA and Stoneville, Mississippi.

Carole Johnson,
Administrator.

[FR Doc. 2024-21407 Filed 9-18-24; 8:45 am]

BILLING CODE 4165-15-P